DEPARTMENT OF EDUCATION

Notice of Proposed Information Collection Requests

AGENCY: Department of Education.

ACTION: Correction notice.

SUMMARY: On February 7, 2002, an emergency notice inviting comment from the public was published for “Application for New Grants—State Program Improvement Grants for Children with Disabilities” in the Federal Register (Volume 67, Number 26) dated February 7, 2002. In the Preamble, under DATES, the second sentence should read, “Approval by the Office of Management and Budget (OMB) has been requested by February 11, 2002”. The Leader, Regulatory Information Management, Office of the Chief Information Officer, hereby issues a correction notice as required by the Paperwork Reduction Act of 1995.

Dated: February 8, 2002.
John D. Tressler,
Leader, Regulatory Information Management Group, Office of the Chief Information Officer.

[FR Doc. 02-3589 Filed 2-13-02; 8:45 am]

BILLING CODE 4000-01-P